DEPARTMENT OF ENERGY

Federal Energy Regulatory Commission

[Project No. 10684-000]

Lansing Board of Water and Light; Notice of Existing Licensee's Failure To File a Notice of Intent To File a Subsequent License Application, and Soliciting Notices of Intent To File a License Application and Pre-Application Documents

The current license for the Lansing Board of Water and Light's Moores Park Project No. 10684 (Moores Park Project) was issued on January 5, 1994, for a term of 30 years, ending December 31, 2023.¹ The 600-kilowatt (kW) project is located on the Grand River in the City of Lansing, in Ingham County, Michigan.

¹ Lansing Board of Water and Light, 66 FERC 62,002 (1994).

The principal project works consist of: (1) A 240-acre reservoir with 2,000-acre-feet of storage at a normal water surface elevation of 833.6 feet National Geodetic Vertical Datum; (2) a 190-foot-long, 21-foot-high reinforced concrete gravity dam divided into a 120-foot-long flashboard-crested spillway section and a 70-foot-long, three-bay Taintor-gate section, each gate measuring 20-foot-long by 10-foot-high; (3) a 110-foot-long, 50- to 83-foot-wide, 61-foot-high integral water-impounding powerhouse constructed of reinforced concrete and brick masonry containing one horizontal axis turbine-generator unit rated at 600 kW; (4) a 200-foot-long, 4,160-volt underground transmission line connected to a step-up transformer; and (5) appurtenant equipment and facilities.

At least five years before the expiration of a license for a minor water power project in which sections 14 and 15 of the Federal Power Act were waived, the Commission's regulations require the licensee to file with the Commission a notice of intent (NOI) that contains an unequivocal statement of the licensee's intention to file or not to file an application for a subsequent license, details on the principal project works and installed plant capacity, and other information.²

² 18 CFR 16.19(b) (2018) (citing 18 CFR 16.6(b) (2018)).

If such a licensee does not inform the Commission that it intends to file an application for, in this case, a subsequent license for the project, the licensee may not file an application for a subsequent license, either individually or in conjunction with an entity or entities that are not currently licensees of the project.³

³ 18 CFR 16.24(b) (2018).

Because the existing license expires on December 31, 2023, the NOI was due to be filed by the close of business on December 31, 2018. The Lansing Board of Water and Light, the existing licensee for the Moores Park Project, failed to file an NOI for the project by this date.⁴

⁴ 18 CFR 16.23(b) (2018).

Any party interested in filing a license application for the Moores Park Project No. 10684 must first file a NOI ⁵ and pre-application document (PAD) ⁶ pursuant to Part 5 of the Commission's regulations. Although the integrated licensing process (ILP) is the default pre-filing process, section 5.3(b) of the Commission's regulations allows a potential license applicant to request to use the traditional licensing process or alternative procedures when it files its NOI.⁷

⁵ 18 CFR 5.5 (2018).

⁶ 18 CFR 5.6 (2018).

⁷ 18 CFR 5.3(b) (2018).

This notice sets a deadline of 120 days from the date of this notice for interested applicants, other than the existing licensee, to file NOIs, PADs, and requests to use the traditional licensing process or alternative procedures.

Applications for a subsequent license from potential applicants must be filed with the Commission at least 24 months prior to the expiration of the existing license.⁸ Because the existing license expires on December 31, 2023, applications for license for this project must be filed by December 31, 2021.⁹

⁸ 18 CFR 16.20 (2018).

⁹ To the extent an interested applicant files an NOI and PAD and elects or is required to use the Commission's ILP, a process plan will be issued within 180 days of this notice, which accelerates the steps of the ILP to allow for filing a timely subsequent license application by the December 31, 2021 deadline.

Questions concerning this notice should be directed to Lee Emery at (202) 502-8379 or lee.emery@ferc.gov.

Dated: January 31, 2019.
Nathaniel J. Davis, Sr.,
Deputy Secretary.

[FR Doc. 2019-01189 Filed 2-5-19; 8:45 am]

BILLING CODE 6717-01-P